DEPARTMENT OF HEALTH AND HUMAN SERVICES

National Institutes of Health

Eunice Kennedy Shriver National Institute of Child Health & Human Development; Notice of Meeting

Pursuant to section 1009 of the Federal Advisory Committee Act, as amended, notice is hereby given of a meeting of the National Advisory Board on Medical Rehabilitation Research.

This will be a hybrid meeting held in-person and virtually and will be open to the public as indicated below. Individuals who plan to attend in-person or view the virtual meeting and need special assistance or other reasonable accommodations, should notify the Contact Person listed below in advance of the meeting. The meeting can be accessed from the NIH Videocast at the following link: https://videocast.nih.gov/.

Name of Committee: National Advisory Board on Medical Rehabilitation Research.

Date: May 5-6, 2025.

Time: May 05, 2025, 10:00 a.m. to 5:00 p.m.

Agenda: NICHD Director's Report, NCMRR Director's Report, Scientific Research Updates.

Address: Eunice Kennedy Shriver National Institute of Child Health and Human Development, 6710 B Rockledge Drive, Bethesda, MD 20817.

Meeting Format: In Person and Virtual Meeting.

Time: May 06, 2025, 10:00 a.m. to 5:00 p.m.

Agenda: NIH Rehabilitation Research Conference Follow-up and Other Relevant Policy and Research Issues.

Address: Eunice Kennedy Shriver National Institute of Child Health and Human Development, 6710 B Rockledge Drive, Bethesda, MD 20817.

Meeting Format: In Person and Virtual Meeting.

Contact Person: Ralph M. Nitkin, Ph.D., Deputy Director, National Center for Medical Rehabilitation, Eunice Kennedy Shriver National Institute of Child Health and Human Development, NIH, 6710B Rockledge Drive, Room 2116, Bethesda, MD 20892-7510, (301) 402-4206, nitkinr@mail.nih.gov.

Any interested person may file written comments with the committee by forwarding the statement to the Contact Persons listed on this notice. The statement should include the name, address, telephone number and when applicable, the business or professional affiliation of the interested person.

Any member of the public interested in presenting oral comments to the committee may notify the Contact Person listed on this notice at least 10 days in advance of the meeting. Interested individuals and representatives of an organization may submit a letter of intent, a brief description of the organization represented and a short description of the oral presentation. Only one representative of an organization may be allowed to present oral comments and presentations may be limited to five minutes. Both printed and electronic copies are requested for the record. In addition, any interested person may file written comments with the committee by forwarding the statement to the Contact Person listed on this notice. The statement should include the name, address, telephone number and when applicable, the business or professional affiliation of the interested person.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

Information is also available on the NABMRR website: https://www.nichd.nih.gov/about/advisory/nabmrr, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS)

Dated: December 19, 2024.
Lauren A. Fleck,
Program Analyst, Office of Federal Advisory Committee Policy.

[FR Doc. 2024-30958 Filed 12-27-24; 8:45 am]

BILLING CODE 4140-01-P